DEPARTMENT OF ENERGY

Federal Energy Regulatory Commission

Combined Notice of Filings #2

Take notice that the Commission received the following electric corporate filings:

Docket Numbers: EC14-126-000.

Applicants: Wisconsin Energy Corporation, Integrys Energy Group, Inc.

Description: Response to Staff Letter requesting additional information of Wisconsin Energy Corporation and Integrys Energy Group, Inc.

Filed Date: 12/18/14.

Accession Number: 20141218-5387.

Comments Due: 5 p.m. ET 1/8/15.

Docket Numbers: EC15-54-000.

Applicants: Idaho Power Company, PacifiCorp.

Description: Joint Application for Authorization for Disposition of Jurisdictional Facilities of Idaho Power Company and PacifiCorp.

Filed Date: 12/19/14.

Accession Number: 20141219-5342.

Comments Due: 5 p.m. ET 1/9/15.

Take notice that the Commission received the following electric rate filings:

Docket Numbers: ER10-1103-004.

Applicants: AmerenEnergy Medina Valley Cogen, L.L.C.

Description: Compliance filing per 35.37: Triennial Market Power Update and MBR Tariff Changes to be effective 12/20/2014.

Filed Date: 12/19/14.

Accession Number: 20141219-5324.

Comments Due: 5 p.m. ET 2/17/15.

Docket Numbers: ER10-1119-004.

Applicants: Ameren Illinois Company.

Description: Compliance filing per 35.37: Triennial Market Power Update and MBR Tariff Changes to be effective 12/20/2014.

Filed Date: 12/19/14.

Accession Number: 20141219-5308.

Comments Due: 5 p.m. ET 2/17/15.

Docket Numbers: ER10-1123-004.

Applicants: Union Electric Company.

Description: Compliance filing per 35.37: Triennial Market Power Update and MBR Tariff Changes to be effective 12/20/2014.

Filed Date: 12/19/14.

Accession Number: 20141219-5320.

Comments Due: 5 p.m. ET 2/17/15.

Docket Numbers: ER10-2848-006; ER11-1939-008; ER11-2754-008; ER12-999-006; ER12-1002-006; ER12-1005-006; ER12-1006-006; ER12-1007-007.

Applicants: AP Holdings, LLC, AP Gas & Electric (IL), LLC, AP Gas & Electric (MD), LLC, AP Gas & Electric (NJ), LLC, AP Gas & Electric (NY), LLC, AP Gas & Electric (OH), LLC, AP Gas & Electric (PA), LLC, AP Gas & Electric (TX), LLC.

Description: Notification of Non-Material Change in Status of AP Holdings Subsidiaries.

Filed Date: 12/19/14.

Accession Number: 20141219-5222.

Comments Due: 5 p.m. ET 1/9/15.

Docket Numbers: ER12-162-011; ER11-3876-014; ER11-2044-014; ER10-2611-012.

Applicants: Bishop Hill Energy II LLC, Cordova Energy Company LLC, MidAmerican Energy Company, Saranac Power Partners, L.P.

Description: Triennial Market Power Analysis Update for the Central Region of Bishop Hill Energy II LLC, et. al. under ER12-162, et. al.

Filed Date: 12/19/14.

Accession Number: 20141219-5264.

Comments Due: 5 p.m. ET 2/17/15.

Docket Numbers: ER14-1822-004.

Applicants: New York Independent System Operator, Inc.

Description: Compliance filing per 35: Minimum Oil Burn Settlement Agreement No. 2178 TC Ravenswood, et. al. to be effective 5/1/2014.

Filed Date: 12/19/14.

Accession Number: 20141219-5272.

Comments Due: 5 p.m. ET 1/9/15.

Docket Numbers: ER15-674-000.

Applicants: New York Independent System Operator, Inc., Niagara Mohawk Power Corporation.

Description: § 205(d) rate filing per 35.13(a)(2)(iii): 205—Cost Reimbursement Agreement 2177 between NiMo and NYPA to be effective 11/21/2014.

Filed Date: 12/19/14.

Accession Number: 20141219-5225.

Comments Due: 5 p.m. ET 1/9/15.

Docket Numbers: ER15-675-000.

Applicants: NorthWestern Corporation.

Description: § 205(d) rate filing per 35.13(a)(2)(iii): Revisions to OATT Schedules 4 and 9 to be effective 3/19/2015.

Filed Date: 12/19/14.

Accession Number: 20141219-5318.

Comments Due: 5 p.m. ET 1/9/15.

Docket Numbers: ER15-678-000.

Applicants: Public Service Company of Colorado.

Description: § 205(d) rate filing per 35.13(a)(2)(iii): SIC Changes in Availability to be effective 2/17/2015.

Filed Date: 12/19/14.

Accession Number: 20141219-5328.

Comments Due: 5 p.m. ET 1/9/15.

Docket Numbers: ER15-679-000.

Applicants: San Diego Gas & Electric Company.

Description: § 205(d) rate filing per 35.13(a)(2)(iii): 2015 SDGE TRBAA TACBAA update to Transmission Owner Tariff Filing to be effective 1/1/2015.

Filed Date: 12/19/14.

Accession Number: 20141219-5329.

Comments Due: 5 p.m. ET 1/9/15.

Docket Numbers: ER15-680-000.

Applicants: PacifiCorp.

Description: § 205(d) rate filing per 35.13(a)(2)(iii): Idaho Power Bridger, JOOA, Termination Agreements to be effective 12/31/9998.

Filed Date: 12/19/14.

Accession Number: 20141219-5354.

Comments Due: 5 p.m. ET 1/9/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 19, 2014.
Nathaniel J. Davis, Sr.,
Deputy Secretary.

[FR Doc. 2014-30326 Filed 12-24-14; 8:45 am]

BILLING CODE 6717-01-P